DEPARTMENT OF TRANSPORTATION

Pipeline and Hazardous Materials Safety Administration

[Docket No. PHMSA-2009-0049]

Pipeline Safety: Requests for Special Permits

AGENCY: Pipeline and Hazardous Materials Safety Administration (PHMSA); DOT.

ACTION: Notice.

SUMMARY: PHMSA is publishing this notice of several special permit requests we have received from pipeline operators, seeking relief from compliance with certain requirements in the Federal pipeline safety regulations. This notice seeks public comments on these requests, including comments on any safety or environmental impacts. At the conclusion of the 30-day comment period, PHMSA will evaluate the requests and determine whether to grant or deny a special permit and the terms and conditions of any grant.

DATES: Submit any comments regarding these special permit requests by May 28, 2009.

ADDRESSES: Comments should reference the docket numbers for the specific special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System: U.S. Department of Transportation, Docket Operations, M-30, West Building Ground Floor, Room W12-140, 1200 New Jersey Avenue, SE., Washington, DC 20590 between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at (202) 366-0113; or, e-mail at kay.mciver@dot.gov.

Technical: Steve Nanney by telephone at (713) 272-2855; or, e-mail at steve.nanney@dot.gov.

SUPPLEMENTARY INFORMATION: This Notice concerns several requests for special permits received by PHMSA from pipeline operators who seek relief from compliance with certain pipeline safety regulations. Each request is filed in the Federal Docket Management System (FDMS) and has been assigned a separate docket number in the FDMS. The docket includes any technical analysis or other supporting documentation provided by the requester. We invite interested persons to participate by reviewing these special permit requests at http://www.Regulations.gov, and by submitting written comments, data, or other information including any comments on potential environmental impacts that may result from the grant of any of these special permits.

Before acting on these special permit requests, PHMSA will evaluate all comments received on or before the comments closing date. Comments will be evaluated after this date if it is possible to do so without incurring additional expense or delay. PHMSA will consider each relevant comment we receive in making our decision to grant or deny a request and the terms and conditions of any grant.

PHMSA has received the following special permit requests:

Docket No. | Requester | Regulation(s) | Nature of special permit
PHMSA-2008-0286 | MoGas Pipeline LLC (MoGas) | 49 CFR 192.14(a)(4), 49 CFR 192.619 | To authorize MoGas Pipeline LLC, to perform alternative risk control activities rather than pressure testing the pipeline to 1.25 times the proposed MAOP. The approximately 24.6 miles long Curryville to Sulpher Creek, to Auburn Station pipeline begins in Pike County, Missouri and ends in Lincoln County, Missouri. The pipeline transports natural gas from Panhandle Eastern Pipeline receipt point to the St. Louis metro. This is from mile post 80.38 to mile post 105.09. The pipeline is a nominal 12-inch diameter line installed in 1949 and 1950.
PHMSA-2009-0053 | TransCanada Pipelines (TCPL) operator of the American Natural Resources (ANR) pipeline | 49 CFR 192.611(a) | To authorize TCPL/ANR to engage in an alternative approach to conduct risk control activities based on Integrity Management Program principles rather than lowering the MAOP or replacing the subject pipe segment. TCPL seeks relief for four areas on the TCPL system where the class location has changed as a result of new structures built within 660 feet of the pipeline. The pipelines have all changed from a Class 1 location to a Class 3 location.
|  |  | Special Permit Area 1: Line 1-100 is a 30-inch pipeline with a MAOP of 850 psig, in Lake County, Indiana. The new Bridgewood Subdivision was constructed within 660 feet of the pipeline. The area became a Class 3 location on May 4, 2007.
|  |  | Special Permit Area 2: Line 226, is part of a pipeline system that transports gas from Viking Gas Transmission Pipeline System, Wisconsin to Appleton Meter Station in Winnebago County, Wisconsin. The new subdivision of 13 structures was constructed within 660 feet of the pipeline. The area became a Class 3 location on May 11, 2007. The pipeline is a 24-inch pipeline with a maximum MAOP of 975 psig.
|  |  | Special Permit Area 3: Line 226 V7, is a 24-inch pipeline that transport gas from the Viking Gas Transmission Pipeline System to the Appleton Meter System on the ANR system in Outagamie County, Wisconsin. This line has a maximum MAOP of 975 psig. A new proximity structure (Great Northern Container Company) was constructed 300 feet of the pipeline. The area became Class 3 location on May 11, 2007.
|  |  | Special Permit Area 4: Line 501, on the TCPL, ANR system is part of a pipeline system that transports gas from the Gulf Coast, Louisiana up to Detroit, Michigan. There are several delivery points along the system. The new Class 3 locations are located in valve section between survey station number 288+32 and 291+78 in Fulton County, Ohio. This new Class 3 location lies within a High Consequence Area (HCA). A new proximity structure (Four County Family Center) was constructed within 300 feet of the pipeline. The area became a Class 3 location on August 24, 2007. This section has a 30-inch diameter pipeline and a MAOP of 858 psig.
PHMSA-2009-0054 | Enstar Natural Gas Company | 49 CFR 192.707 | To authorize ENSTAR exemption from installing pipeline markers over gas mains at road and railroad crossings in Class 1 location and Class 2 location. Instead ENSTAR proposes to adopt a risk based approach to installing markers in Class 1 location and Class 2 location and install markers not only at road crossings but over the length of the large diameter (6”NPS or larger) gas mains.
PHMSA-2009-0055 | TransCanada Pipelines Ltd(TCPL)/American Natural Resources (ANR) |  | To authorize TCPL/ANR to engage in an alternative approach to conduct risk control activities based on Integrity Management Program principles rather than lowering the MAOP or replacing the subject pipe segment. This application is for four segments of Line 716 on the TCPL/ANR segment in St. Martin Parish in Louisiana. This segment has changed from a Class 1 location to a Class 3 location. Further growth is anticipated in this area and TCPL requests that the special permit would apply to any additional pipe segments located on this pipeline in the inspection area that may experience a Class Location change in the future. The pipeline has a 20-inch diameter, a MAOP of 1050 psig and operates at 73% of SMYS.
PHMSA-2009-0056 | TransCanada Pipelines Ltd(TCPL)/American Natural Resources (ANR) |  | To authorize TCPL/ANR to engage in an alternative approach to conduct risk control activities based on Integrity Management Program principles rather than lowering the MAOP or replacing the subject pipe segment. This segment has changed from a Class 1 location to a Class 3 location. Further growth is anticipated in this area and TCPL requests that the special permit would apply to any additional pipe segments located on this pipeline in the inspection area that may experience a Class Location change in the future. This request is for the 30-inch diameter Line 1-501 pipeline located in Tate County, Mississippi. This loop pipeline transports gas from the Gulf Coast, Louisiana to Detroit, Michigan, USA, and has several delivery points in major population areas.
PHMSA-2009-0061 | TransCanada Pipelines Ltd(TCPL)/American Natural Resources (ANR) |  | To authorize TCPL/ANR to engage in an alternative approach to conduct risk control activities based on Integrity Management Program principles rather than lowering the MAOP or replacing the subject pipe segment. This segment has changed from a Class 1 location to a Class 3 location. Further growth is anticipated in this area and TCPL requests that the special permit would apply to any additional pipe segments located on this pipeline in the inspection area that may experience a Class Location change in the future. This request is for Line 515 on the TCPL ANR system. This is a 20-inch single line customer delivery lateral that delivers gas to ANR's Maumee Meter Station. The Class location change is the result of the new Ridge at Wrenwood subdivision constructed within 660 feet of the pipeline. These 26 new structures in addition to existing structures resulted in a Class Location change. The pipeline has a MAOP of 858 psig and operates at 66% of SMYS.
PHMSA-2009-0079 | Williams Transcontinental Gas Pipe Line (WGPT) | 49 CFR 192.611 | To authorize Williams Transcontinental Pipe Line (WGPT) to engage in an alternative approach to conduct risk control activities based on Integrity Management Program principles rather than lowering the MAOP or replacing the subject pipe segment. This request is for the 30-inch and 36-inch pipelines located in the Davidson, Guilford, and Rockingham counties in the state of North Carolina. The 30-inch line has a MAOP of 780 psig and the 36-inch has a MAOP of 780 psig. The lines transport gas from the Gulf Coast, East Texas, and Southern Louisiana to Northeast Markets providing gas to WGPT customers. The Class location change is due to the addition of 32 homes.
PHMSA-2009-0100 | Paiute Pipeline Company | 49 CFR 190.341, 49 CFR 192.605, 49 CFR 192.745 | To authorize Piaute Pipeline Company to temporarily deviate from certain federal pipeline regulations and Piaute's maintenance procedures relative to transmission valves, and the partial operation of certain buried steel ball valves during regularly scheduled valve maintenance activities. Piaute proposes alternatives for this deviation. Piaute owns and operates 856 miles of interstate gas transmission pipeline in the state of Nevada under PHMSA Operator Identification Number 15033.

Authority: 49 U.S.C. 60118(c)(1) and 49 CFR 1.53.

Issued in Washington, DC, on April 17, 2009.
Alan Mayberry,
Director, Engineering and Emergency Support.

[FR Doc. E9-9610 Filed 4-27-09; 8:45 am]

BILLING CODE 4910-60-P